DEPARTMENT OF HEALTH AND HUMAN SERVICES

Centers for Disease Control and Prevention

[30Day-06-05AM]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4794 or send an e-mail to omb@cdc.gov. Send written comments to CDC Desk Officer, Office of Management and Budget, Washington, DC or by fax to (202) 395-6974. Written comments should be received within 30 days of this notice.

Proposed Project

National Program of Cancer Registries Annual Program Evaluation Instrument (NPCR-APEI)—New—National Center for Chronic Disease Prevention and Health Promotion (NCCDPHP), Centers for Disease Control and Prevention (CDC).

Background and Brief Description

CDC is responsible for administering and monitoring the National Program of Cancer Registries (NPCR). As of 1999, CDC supported 45 states, 3 territories, and the District of Columbia for population-based cancer registries. (The 5 remaining states receive federal funding for the operations of cancer registries through the National Cancer Institute.) The central cancer registries (CCR), the foundation of cancer prevention and control, provide information from the reporting jurisdictions and insure that quality and timely cancer surveillance data are available to CDC.

The NPCR Annual Program Evaluation Instrument (NPCR-APEI) is needed in order to receive, process, evaluate, aggregate and disseminate NPCR program information collected by NPCR registries and reported to CDC. Data collected with this instrument will be used by the NPCR to evaluate various attributes of the registries funded by NPCR, monitor NPCR registries' progress towards program standards and objectives, and compare an individual NPCR registry's progress towards standards with national program standards as well as those of SEER and NAACCR. There are no costs to respondents except their time to participate in the survey. The total estimated annualized burden hours are 74.

Estimated Annualized Burden Table
Respondents | Number of respondents | Number of responses per respondent | Average burden per response (in hours)
CCR Program Directors and CCR staff | 49 | 1 | 1.5

Dated: November 9, 2005.
Betsey Dunaway,
Acting Reports Clearance Officer, Centers for Disease Control and Prevention.

[FR Doc. 05-22713 Filed 11-15-05; 8:45 am]

BILLING CODE 4163-18-P